DEPARTMENT OF AGRICULTURE

Forest Service

Humboldt-Toiyabe National Forest; Nevada; Environmental Impact Statement for Geothermal Leasing on the Humboldt-Toiyabe National Forest

AGENCY: Forest Service, USDA.

ACTION: Notice of Intent to prepare an environmental impact statement.

SUMMARY: The Humboldt-Toiyabe National Forest (HTNF) will prepare an environmental impact statement (EIS) to evaluate certain National Forest System (NFS) lands for geothermal leasing availability. The project area includes NFS lands on the HTNF in Douglas, Lyon, Mineral, Lander, Nye and White Pine County, NV.

DATES: Comments concerning the scope of the analysis must be received by May 16, 2011. The draft environmental impact statement is expected in October 2011 and the final environmental impact statement is expected in March 2012.

ADDRESSES: Send written comments to Keith Whaley, Project Manager, Humboldt-Toiyabe National Forest, Bridgeport Ranger District, HC 62 Box 1000, Bridgeport, CA 93517. Comments may also be sent via e-mail to comments-intermtn-humboldt-toiyabe @fs.fed.us or via facsimile to (760) 932-5899. Comments can be hand-delivered to: Bridgeport Ranger Station, Highway 395 South, Bridgeport, CA, Attn. Keith Whaley. Comments received in response to this Notice of Intent (NOI), including names and addresses of those who comment, will be considered part of the public record for this project and will be available for public inspection and will be released, if requested, under the Freedom of Information Act.

FOR FURTHER INFORMATION CONTACT: Keith Whaley, Project Manager, Bridgeport Ranger District, HC 62 Box 1000, Bridgeport, CA 93517; Telephone: (760) 932-5821; E-mail: kwhaley@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

The purpose of the proposed action is to determine if certain lands within the HTNF may be made available for geothermal leasing, and if so, to identify reasonable and necessary conditions to protect surface resources. The need for the proposed action is to allow the FS to satisfy their respective statutory and policy mandates in responding to requests for the environmentally responsible development of energy resources; to address provisions of the Energy Policy Act of 2005 (Sections 211 and 222[d][1]); respond to other policy directives calling for clean and renewable energy; and to meet the increasing energy demands of the nation while reducing reliance on foreign energy imports, reducing greenhouse gas emissions, and improving national security.

Proposed Action

The HTNF would make approximately 662,700 acres of NFS lands administratively available for geothermal leasing. The lands to be made available encompass the Nevada portion of the Bridgeport Ranger District (approximately 659,000 acres), one area on the Austin Ranger District (approximately 3,200 acres), one area (approximately 160 acres) on the Tonopah District and one area on the Ely Ranger District (approximately 3,574 acres). Leasing would include stipulations from Chapter 2 of the Geothermal Leasing Programmatic Environmental Impact Statement (BLM, October 2008) and other stipulations determined to be reasonable and necessary to protect surface resources.

The Decision resulting from this analysis would not affect any prior decisions on: (1) Geothermal leases in effect (2) Regional Forester Consent Decisions for specific geothermal leases or (3) lands made available under previous Forest-Level Availability Determination Decisions at the time said Decision is made. In addition, this analysis does not make any leasing determination decisions on any lands being analyzed under a separate environmental analysis at the time of this EIS.

Possible Alternatives

The No-Action Alternative: The USFS would not make an availability determination on these lands identified under this analysis. Processing of geothermal lease applications and nominations would continue, however, they would be evaluated on a case-by-case basis under separate NEPA analyses.

The No Leasing Alternative: The No Leasing Alternative would not allow leasing of geothermal resources on the subject NFS lands. Under this alternative, lands within the project area analyzed would not be available for leasing.

Lead and Cooperating Agencies

The Bureau of Land Management Nevada State office, located at 1340 Financial Blvd, Reno, NV 89502, is a cooperating agency for this NEPA analysis.

Responsible Official

Jeanne M. Higgins, Forest Supervisor, Humboldt-Toiyabe National Forest, 1200 Franklin Way, Sparks, Nevada 89431.

Nature of Decision To Be Made

Based on the environmental analysis and disclosure in the EIS, the Forest Supervisor will decide whether or not to make available for geothermal leasing the lands analyzed in this EIS.

Preliminary Issues

Preliminary issues identified based on our experience with similar projects includes, but is not limited to, cultural resources, wildlife, vegetation, air, water, Native American concerns, visuals, land use, hazardous materials, inventoried roadless areas, social, and economic conditions. Other issues may be identified during the scoping period.

Scoping Process

This NOI initiates the scoping process, which guides the development of the environmental impact statement. The scoping period for this EIS will run 30 days from the published date of this NOI.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: 17, 2011.
Jeanne M. Higgins,
Forest Supervisor.

[FR Doc. 2011-9160 Filed 4-14-11; 8:45 am]

BILLING CODE 3410-11-P